DEPARTMENT OF DEFENSE

Office of the Secretary

Defense Science Board; Correction

AGENCY: Department of Defense, DoD.

ACTION: Notice of advisory committee meeting; correction.

SUMMARY: On June 8, 2010, DoD published a notice (75 FR 32416) announcing a meeting of the Defense Science Board Task Force. In one instance the notice contained irrelevant text. This notice corrects that error.

FOR FURTHER INFORMATION CONTACT: LTC Karen Walters at 703-571-0082.

SUPPLEMENTARY INFORMATION: On June 8, 2010, DoD published a notice announcing a meeting of the Defense Science Board Task Force on the Survivability of DoD Systems and Assets to Electromagnetic Pulse (EMP) and other Nuclear Weapons Effects. The meeting will be held July 15 and 16, 2010, at Fort Belvoir, VA. Subsequent to the publication of that notice, DoD discovered that the text contained one instance of irrelevant text. This notice corrects that information.

Correction

In the notice (FR Doc. 2010-13770) published on June 8, 2010 (75 FR 32416), make the following correction. On page 32416, in the second column, correct the first paragraph under SUPPLEMENTARY INFORMATION by deleting the following sentence: “At these meetings, the Defense Science Board Task Force will act as an independent sounding board to the Joint IED organization by providing feedback at quarterly intervals; and develop strategic and operational plans, examining the goals, process and substance of the plans.”

Dated: June 8, 2010.
Mitchell S. Bryman,
Alternate OSD Federal Register Liaison Officer, Department of Defense.

[FR Doc. 2010-14140 Filed 6-11-10; 8:45 am]

BILLING CODE 5001-06-P